DEPARTMENT OF HEALTH AND HUMAN SERVICES

National Institutes of Health

Prospective Grant of an Exclusive Patent License: LZK-Targeting Cancer Therapeutic

AGENCY: National Institutes of Health, HHS.

ACTION: Notice.

SUMMARY: The National Cancer Institute (NCI), an institute of the National Institutes of Health (NIH), Department of Health and Human Services (HHS), is contemplating the grant of an Exclusive Patent License to practice the inventions embodied in the Patents and Patent Applications listed in the Supplementary Information section of this Notice to Uereka Biosciences Inc. (“Uereka”), headquartered in East Wakefield, NH.

DATES: Only written comments and/or applications for a license which are received by the National Cancer Institute's Technology Transfer Center on or before May 18, 2022 will be considered.

ADDRESSES: Requests for copies of the patent applications, inquiries, and comments relating to the contemplated Exclusive Patent License should be directed to: Jasmine Yang, Ph.D., Senior Technology Transfer Manager, NCI Technology Transfer Center, Telephone: 301-624-8746; Email: jasmine.yang@nih.gov.

SUPPLEMENTARY INFORMATION:

Intellectual Property

(1) HHS Ref. No.: E-163-2020-0, Entitled: Leucine Zipper-bearing Kinase (LZK) Targeting Degraders and Methods of Use

(a) US Provisional Patent Application No.: 63/073,835 HHS Ref. No.: E-163-2020-0-US-01 Filing Date: September 2, 2020

(b) PCT Patent Application No.: PCT/US2021/048600 HHS Ref. No.: E-163-2020-0-PCT-02 Filing Date: September 1, 2021

(2) HHS Ref. No.: E-169-2021-0, Entitled: LZK-Targeting ATP-Competitive Catalytic Inhibitors Suppress LZK Catalytic Activity, Inhibit MYC Expression, Inhibit AKT Activation, and Promote Cancer Cell Death and Tumor Regression

(a) US Provisional Patent Application No.: 63/239,797 HHS Ref. No.: E-169-2021-0-US-01 Filing Date: September 1, 2021

The patent rights in these inventions have been assigned and/or exclusively licensed to the government of the United States of America.

The prospective exclusive license territory may be worldwide, and the field of use may be limited to the following:

“LZK‐targeting small molecules inhibitors or PROTACs to treat cancers overexpressing LZK..”

Leucine-Zipper Kinase (LZK, encoded by MAP3K13, a resident gene of the 3q amplicon) is highly expressed in the mouse brain, particularly the cerebellum, but also in the intestine, olfactory bulb, liver, and kidney and shown to promote neurite growth. In addition, LZK overexpression and 3q amplification is associated with cancer such as squamous cell carcinomas (SCC). The Intellectual Property are directed to compositions of matter to LZK kinase inhibitors as well as the combination of a LZK binding moiety to an E3-ligase binding moiety via a linker and specific structures to each component as well as methods of using said compositions to treat LZK overexpression diseases and condition and to degrade or inhibit LZK activity.

This Notice is made in accordance with 35 U.S.C. 209 and 37 CFR part 404. The prospective exclusive license will be royalty bearing, and the prospective exclusive license may be granted unless within fifteen (15) days from the date of this published Notice, the National Cancer Institute receives written evidence and argument establishing that the grant of the license would not be consistent with the requirements of 35 U.S.C. 209 and 37 CFR part 404.

In response to this Notice, the public may file comments or objections. Comments and objections, other than those in the form of a license application, will not be treated confidentially and may be made publicly available.

License applications submitted in response to this Notice will be presumed to contain business confidential information and any release of information from these license applications will be made only as required and upon a request under the Freedom of Information Act, 5 U.S.C. 552.

Dated: April 28, 2022.
Richard U. Rodriguez,
Associate Director, Technology Transfer Center, National Cancer Institute.

[FR Doc. 2022-09486 Filed 5-2-22; 8:45 am]

BILLING CODE 4140-01-P